DEPARTMENT OF LABOR

Employment and Training Administration

[TA-W-52,562]

Rothtec Engraving Corp., Spartanburg, South Carolina; Notice of Termination of Investigation

Pursuant to section 221 of the Trade Act of 1974, an investigation was initiated on August 15, 2003 in response to a worker petition which was filed by a company official on behalf of workers at Rothtec Engraving Corporation, Spartanburg, South Carolina (TA-W-52,562).

The petitioner has requested that the petition be withdrawn. Consequently, further investigation in this case would serve no purpose, and the investigation has been terminated.

Signed in Washington, DC, this 26th day of August 2003.
Linda G. Poole,
Certifying Officer, Division of Trade Adjustment Assistance.

[FR Doc. 03-23715 Filed 9-16-03; 8:45 am]

BILLING CODE 4510-30-P